DEPARTMENT OF HEALTH AND HUMAN SERVICES

Centers for Disease Control and Prevention

[60Day-25-0017; Docket No. CDC-2025-0026]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on a continuing information collection, as required by the Paperwork Reduction Act of 1995. This notice invites comment on a proposed information collection project titled Application for Training. CDC collects information from the developers of training courses, and learners who participate in them, to support the development, administration and evaluation of high-quality educational courses.

DATES: CDC must receive written comments on or before August 15, 2025.

ADDRESSES: You may submit comments, identified by Docket No. CDC-2025-0026 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Application for Training (OMB Control No. 0920-0017, Exp. 09/30/2025)—Revision—National Center for State, Tribal, Local, and Territorial Public Health Infrastructure and Workforce (NCSTLTPHIW), Centers for Disease Control and Prevention (CDC).

Background and Brief Description

The mission of CDC's Division of Workforce Development (DWD) is to provide leadership in public health training and education by supporting innovative, evidence-based programs that prepare the health workforce to meet the public health challenges of the 21st century. CDC offers training and professional development opportunities (both accredited and non-accredited) in the areas of public health, epidemiology, medicine, economics, information science, veterinary medicine, nursing, public policy, and other related fields.

To administer its broad portfolio of training activities, CDC collects information from the developers of educational content and the learners who participate in professional training opportunities. Information has been collected through two electronic platforms: the CDC TRAIN learning management system and the Training and Continuing Education Online (TCEO) learning management system. These systems collected similar data, with some variability. CDC's previous request for OMB approval outlined a multi-year plan to decommission the TCEO platform and transition all information collection to the CDC TRAIN platform under a unified data collection and evaluation framework for all CDC course offerings.

This Revision requests removal of data collection instruments relating to the TCEO learning management system, which has been discontinued as of January 2025. During the next OMB approval period, CDC plans to collect all data online using the secure, password-protected CDC TRAIN platform. This Revision also consolidates accredited and nonaccredited training evaluation tools into one modular post-course evaluation (taken immediately after a course is completed), and one follow-up evaluation (taken one month after the course is completed). Respondents will include educational developers requesting accreditation for their trainings and public health and healthcare professionals who seek training. CDC will use identifiable information in CDC TRAIN to track participant completion of educational activities and facilitate required reporting for learners to earn continuing education credits, hours, or units. The Revision request includes updated estimates for the number of respondents, burden per response, frequency of information collection, and total burden hours. The proposed changes will reduce burden, streamline data collection efforts and provide CDC with a more effective, efficient, and secure mechanism for collecting, processing, and monitoring training-related information. CDC will use information collected in CDC TRAIN to evaluate and improve courses based on learner feedback. For accredited trainings, this information will also be used to generate certificates of attendance and verify training completion, review and approve proposals for educational activities to receive continuing education accreditation, and ensure compliance with mandatory accreditation standards. Aggregate data from the evaluations in CDC TRAIN will be used to improve educational activities and assess learning outcomes.

OMB approval is requested for three years. The total estimated annualized burden will decrease from 288,150 hours to 127,650 hours. There are no costs to respondents other than their time.

Estimated Annualized Burden Hours
Type of respondent | Form name | Number of respondents | Number of responses per respondent | Average burden per response (in hr) | Total burden (in hr)
Educational Developers (Health Educators) | Continuing Education (CE) Proposal | 130 | 1 | 5 | 650
Public Health and Health Care Professionals (Learners) | CDC TRAIN Post-Course Evaluation | 250,000 | 2 | 15/60 | 125,000
Public Health and Health Care Professionals (Learners) | CDC TRAIN Follow-up Evaluation | 20,000 | 2 | 3/60 | 2,000
Total |  |  |  |  | 127,650

Jeffrey M. Zirger,
Lead, Information Collection Review Office, Office of Public Health Ethics and Regulations, Office of Science, Centers for Disease Control and Prevention.

[FR Doc. 2025-10902 Filed 6-13-25; 8:45 am]

BILLING CODE 4163-18-P